DEPARTMENT OF STATE

[Public Notice 9024]

Notice of Public Meeting

The Department of State will conduct an open meeting on Wednesday, March 4, 2015, at the headquarters of the Radio Technical Commission for Maritime Services (RTCM) in Suite 605, 1611 N. Kent Street, Arlington, Virginia 22209. The meeting will start at 9:30 a.m. The primary purpose of the meetings is to prepare for the second Session of the International Maritime Organization's (IMO) Sub-Committee on Navigation, Communication, and Search and Rescue to be held at the IMO Headquarters, United Kingdom, from March 9, 2015 to March 13, 2015.

The primary matters to be considered include:

—Routeing measures and mandatory ship reporting systems

—Recognition of Galileo as a component of the World-wide Radionavigation System (WWRNS)

—Updates to the Long-Range Identification and Tracking (LRIT) system

—E-navigation strategy implementation plan

—Performance standards for multi-system shipborne navigation systems

—Analysis of developments in maritime radiocommunication systems and technology

—First outline of the detailed review of the Global Maritime Distress and Safety System (GMDSS)

—Further development of the GMDSS master plan on shore-based facilities

—Guidelines on MSI (maritime safety information) provisions

—Response to matters related to the Radiocommunication ITU R Study Group

—Response to matters related to ITU World Radiocommunication Conference

—Analysis of information on developments in Inmarsat and Cospas-Sarsat

—Guidelines on harmonized aeronautical and maritime search and rescue procedures, including SAR training matters

—Further development of the Global SAR Plan for the provision of maritime SAR services

—Procedures for routeing distress information in the GMDSS

—Amendments to the IAMSAR Manual

—Unified interpretation of provisions of IMO safety, security, and environment related Conventions

—Biennial agenda and provisional agenda for NCSR 3

—Report to the Maritime Safety Committee

Members of the public may attend this meeting up to the seating capacity of the room. To facilitate the building security process and to request reasonable accommodation, those who plan to attend should contact the meeting coordinator, Mr. George Detweiler, not later than 7 days prior to the meeting. Mr. Detweiler may be contacted by email at George.H.Detweiler@uscg.mil, or by phone at (202) 372-1566. Requests made after that date might not be able to be accommodated. Additional information regarding these and other IMO public meetings may be found at: www.uscg.mil/imo.

Dated: January 29, 2015.
Marc Zlomek,
Office of Ocean and Polar Affairs, Department of State.

[FR Doc. 2015-02254 Filed 2-3-15; 8:45 am]

BILLING CODE 4710-09-P